DEPARTMENT OF HOMELAND SECURITY

Coast Guard

33 CFR Part 117

[Docket No. USCG-2009-0803]

Drawbridge Operation Regulations; Oakland Inner Harbor Tidal Canal, Oakland/Alameda, CA, Schedule Change

AGENCY: Coast Guard, DHS.

ACTION: Notice of proposed rulemaking; withdrawal.

SUMMARY: The Coast Guard is withdrawing its notice of proposed rulemaking (NPRM), to change the operation of the Alameda County and the Army Corps of Engineers owned drawbridges crossing the Oakland Inner Harbor Tidal Canal, between Oakland and Alameda, California. The proposed change would have allowed the drawbridges to open for vessels upon four hours advance notice for openings between the hours 4:30 p.m. and 9 a.m. daily. With the exception of Federal Holidays, openings at all other times would have been on signal except during interstate rush hours, 8 a.m. to 9 a.m. and 4:30 p.m. to 6:30 p.m., Monday through Friday, when the drawbridges need not be opened for vessels. The proposed change was requested by Alameda County to reduce the drawbridge staffing requirements during periods of reduced openings. The NPRM is being withdrawn because of the opposing comments received from the various sources including the primary waterway users that transit the drawbridges.

DATES: The notice of proposed rulemaking is withdrawn on January 26, 2011.

ADDRESSES: The docket for this withdrawn rulemaking is available for inspection or copying at the Docket Management Facility (M-30), U.S. Department of Transportation, West Building Ground Floor, Room W12-140, 1200 New Jersey Avenue, SE., Washington, DC 20590, between 9 a.m. and 5 p.m., Monday through Friday, except Federal holidays. You may also find this docket on the Internet by going to http://www.regulations.gov, inserting USCG-2009-0803 in the “Keyword” box and then clicking “Search”.

FOR FURTHER INFORMATION CONTACT: If you have questions about this notice, call or e-mail David H. Sulouff, Chief, Bridge Section, Waterways Management Branch, 11th Coast Guard District, telephone 510-437-3516, e-mail address: David.H.Sulouff@USCG.mil. If you have questions on viewing material in the docket, call Renee V. Wright, Program Manager, Docket Operations, telephone 202-366-9826.

SUPPLEMENTARY INFORMATION:

Background

On May 27, 2010, we published a Notice of Proposed Rulemaking entitled “Drawbridge Operation Regulation; Oakland Inner Harbor Tidal Canal, Oakland/Alameda, CA, Schedule Change” in the Federal Register (75 FR 29693-29695). The proposed change would have allowed the drawbridge owner/operator to reduce the hours of staffing on the drawbridges and would have required a four hour advance notice from mariners to the bridge operator for vessel transits requiring drawbridge openings, during the specified times. A test period of the proposed regulation was not performed. A Coast Guard Public Meeting was determined unnecessary due to the outreach provided by Alameda County, the response to the NPRM and the actions of local concerned citizens.

The Coast Guard received twenty-nine (29) response to the NPRM. Of these two (2) were in support of the proposal and twenty-seven (27) either opposed or recommended additional review of the proposal. Some of the opposing entries contained input from multiple sources including petitions against the proposal and letters providing consolidated input from various organizations in opposition. We conducted a lengthy and thorough investigation including a review of statistical information on vessel transits provided by Alameda County, site visits at the drawbridges and waterfront facilities along the Oakland Inner Harbor, presentations to and request for input from the San Francisco Harbor Safety Committee, requests for input from the Cities of Alameda and Oakland, CA, and dissemination of the Federal Register to most of the local marine related establishments along the waterway. Local groups representing waterway users and property owners along the waterway provided additional dissemination of the Federal Register NPRM for the proposed change. The bridge operator (Alameda County) held a public meeting on April 1, 2010 to present the proposal to the local public. The Coast Guard directly contacted the primary waterway users to obtain their input.

The proposed change was submitted by Alameda County. Alameda County indicated that the proposed regulation change would meet their minimum needs for reducing funding required for drawbridge staffing and alternatives had not been considered at the time of the request. Comments opposing the proposed change were received from the San Francisco Harbor Safety Committee, The National Boating Federation, Hanson Aggregates, Power Engineering, Harbor Bay Maritime, Dutra Group, Oakland Yacht Club, Fernside Homeowners Association, Waterfront Homeowners Association, East Shore Homeowners Association, Aeolian Yacht Club, Briar Rose Yacht Charters, Baytech Marine Service, Heinold's First and Last Chance, Aroma Restaurant, Eskelund Marine, Bocanova, Vortex Marine Construction, British Marine, The Outboard Motor Shop, Waterfront Hotel-Miss Pearl's Restaurant, Encinal Yacht Club, Marina Village Inn, Kincaid's Restaurant, Scott's Seafood Restaurant, Captain Ed Payne Technical Services, Il Pescatore Restaurant, The City of Alameda, The City of Oakland Fire Department, City of Oakland Public Works/Transportation Services Division, and numerous local residents and vessel owners. Comments received recommending additional review and possible alternative regulations included those from Mr. Tom Charron, Mr. Henry C. Lindemann and The Bay Planning Coalition recommending coordination with RBOC Recreational Boaters of California, PICYA Pacific Inter-Club Yacht Association and other key stakeholders.

Withdrawal

The Notice of Proposed Rulemaking is withdrawn due to comments received in opposition and the potential negative impacts to navigation and the surrounding community. We have determined the regulation change, as proposed, would not meet the reasonable needs of navigation on the waterway.

Authority: This action is taken under the authority of 33 U.S.C. 499; 33 CFR 1.05-1; Department of Homeland Security Delegation No. 0170.1.

Dated: January 3, 2011.
J.R. Castillo,
Rear Admiral, U.S. Coast Guard, Commander, Eleventh Coast Guard District.

[FR Doc. 2011-1574 Filed 1-25-11; 8:45 am]

BILLING CODE 9110-04-P